DEPARTMENT OF TRANSPORTATION

Office of the Secretary

[Docket No. DOT-OST-2024-0016]

Agency Information Collection Activities: Approval of Information Collection

AGENCY: Office of the Secretary (OST), DOT.

ACTION: 30-Day notice and request for comments.

SUMMARY: Under the Paperwork Reduction Act of 1995 (PRA), this notice announces that the Department of Transportation (DOT) is forwarding the Information Collection Request (ICR) abstracted below to the Office of Management and Budget (OMB) for review and comment. The ICR describes the information collection and its expected burden. On September 6, 2023, DOT published a notice providing a 60-day period for public comment on the ICR. DOT received no comments on this notice. This collection is necessary for administration of the Reconnecting Communities (RCP) and Neighborhood Access and Equity (NAE) Discretionary Grant Programs and funding opportunities. Together, these programs are known as “Reconnecting Communities and Neighborhoods (RCN)” in the combined NOFO. RCN provides federal financial assistance for surface transportation infrastructure projects. Through RCP, this includes removing, retrofitting, or mitigating transportation facilities such as highways and rail lines that create barriers to community connectivity including to mobility, access, or economic development. Through NAE, this includes the RCP eligibilities and expands eligibility to activities that reduce the burdens to communities of existing transportation infrastructure, including air quality impacts and greenhouse gas emissions, urban heat islands, gaps in tree canopy coverage, and other natural environment concerns.

DATES: Written comments should be submitted by March 11, 2024.

ADDRESSES: To ensure that you do not duplicate your docket submissions, please submit them by only one of the following means:

• Federal eRulemaking Portal: Go to https://www.regulations.gov and follow the online instructions for submitting comments.

• Mail: Docket Management Facility, U.S. Department of Transportation, 1200 New Jersey Ave. SE, West Building Ground Floor, Room W12-140, Washington, DC 20590-0001.

• Hand Delivery: West Building Ground Floor, Room W-12-140 1200, New Jersey Ave. SE, between 9 a.m. and 5 p.m., Monday through Friday, except Federal holidays. The telephone number is 202-366-9329.

Instructions: To ensure proper docketing of your comment, please include the agency name and docket number [DOT-OST-2024-0016] at the beginning of your comments. All comments received will be posted without change to http://www.regulations.gov, including any personal information provided.

FOR FURTHER INFORMATION CONTACT: For further information regarding this notice, please contact the Office of the Secretary via email at ReconnectingCommunities@dot.gov or contact Andrew Emanuele at andrew.emanuele@dot.gov. A TDD is available for individuals who are deaf or hard of hearing at 202-366-3993.

SUPPLEMENTARY INFORMATION: New Collection. OMB number will be issued after the collection is approved.

Title: Reconnecting Communities Pilot Program and Neighborhood Access and Equity Program (Reconnecting Communities and Neighborhoods [RCN] Program) Discretionary Grants.

Form Numbers: None.

Type of Review: New Information Collection Request (ICR).

Background: The Office of the Secretary (OST) within the Department of Transportation (DOT) provides financial assistance for surface transportation infrastructure projects, including removing, retrofitting, or mitigating transportation facilities such as highways and rail lines that create barriers to community connectivity including to mobility, access, or economic development. The Infrastructure Investment and Jobs Act (Pub. L. 117-58, November 15, 2021) (Bipartisan Infrastructure Law, or BIL) provided funds to DOT to invest in planning and capital construction grants to reduce transportation barriers: the Reconnecting Communities Pilot Program, found under section 11509 of division A. The Inflation Reduction Act (Pub. L. 117-169, August 16, 2022) (IRA) provided funds to DOT for the NAE to invest in planning and construction grants to improve walkability and safety and provide affordable access: the Neighborhood Access and Equity grant program, found at 23 U.S.C. 177. To help streamline the process for applicants, DOT has combined the applications for the RCP and NAE programs into the RCN common application.

DOT combined these two programs into one single Notice of Funding Opportunity (NOFO) to provide a more efficient application process for project sponsors. While they remain separate programs for the purposes of award, the programs share many common characteristics. Because of these shared characteristics, it is possible for many projects to be eligible and considered for multiple programs using a single application.

This notice seeks comments on the proposed information collection, which will collect information necessary to support the ongoing oversight and administration of previous awards, a Letter of Intent screening tool, the evaluation and selection of new applications, the funding agreement negotiation stage for new awards, and the evaluation of the programs. The reporting requirements for the program is as follows:

Prior to applying, a project sponsor may fill out a “Letter of Intent” screening tool to help determine eligibility for one or both programs within the RCN NOFO or help direct them to a more appropriate grant program.

To be considered to receive an RCN grant, a project sponsor must submit an application to DOT containing standard forms, a key information table, a project narrative, and budget description, as detailed in the NOFO. These materials should include the information necessary for DOT to determine that the project satisfies eligibility requirements as warranted by law.

Following the announcement of a funding award, the recipient and DOT will negotiate and sign a funding agreement with awardees. In the agreement, the recipient must describe the project that DOT agreed to fund, which is the project that was described in the RCN application or a reduced-scope version of that project. The agreement also includes project schedule milestones, a budget, and project-related climate change, equity, and workforce planning and policies.

To fulfill evaluation requirements, DOT will conduct interviews with stakeholders associated with each awarded capital construction grant. These interviews will be used to inform case studies that will be developed for each funded capital construction project.

During the project monitoring stage, grantees will submit reports on the financial condition of the project and the project's progress. Grantees will submit progress and monitoring reports to DOT on a quarterly basis until completion of the project. The progress reports will include an SF-425, Federal Financial Report, and other information determined by the administering DOT Operating Administration. This information will be used to monitor grantees' use of Federal funds, ensuring accountability and financial transparency in the RCN programs.

For Post Construction Reporting, the DOT will evaluate the program for recipients of capital construction grants and include the outcomes and impacts of the completed projects. The reporting will document any changes in the overall level of mobility, congestion, access, and safety in the project areas, and environmental impacts and economic development opportunities in project areas. Performance reporting continues for five years after project construction is completed, during which DOT will not provide grant funding specifically for performance reporting.

DOT received 682 applications in Fiscal Year (FY) 2023. For the purposes of estimating the information collection burden below for new applicants and awardees, DOT expects to receive 600 applications in FY 2024 and 435 applications in FY 2025, with the expected depletion of NAE funds. DOT is negotiating 45 funding agreements in FY 2023 and estimates that for FY 2024 and FY 2025, it will negotiate 100 funding agreements per year. Quarterly project monitoring will occur for the 45 RCP projects awarded in FY 2022 and in the following year, for both FY 2022 and 2023 awards. DOT will conduct interviews with 30 stakeholders (five for each of the six capital construction grants awarded in the FY 2022 round) in FY 2024 and 175 stakeholders (five for each of the estimated 35 capital construction grants awarded in the FY 2023 round) in FY 2025. DOT estimates that 600 respondents will use the Letter of Intent tool in FY 2024 and 250 respondents will use it in FY 2025. For a detailed breakdown of burden hours, please see Table 1.

Table 1
Respondent | Year 1 (2023): # | Year 1 (2023): Hrs. | Year 1 (2023): Freq. | Year 2 (2024): # | Year 2 (2024): Hrs. | Year 2 (2024): Freq. | Year 3 (2025): # | Year 3 (2025): Hrs. | Year 3 (2025): Freq. | Total hrs.
Letter of Intent |  |  |  |  |  |  |  |  |  |
Applicants | 682 | 100 | 1 |  |  |  |  |  |  | 68,200
Awardee Funding Agreements | 45 | 6 | 1 |  |  |  |  |  |  | 270
Quarterly Monitoring |  |  |  |  |  |  |  |  |  |
Letter of Intent |  |  |  | 600 | 0.5 | 1 |  |  |  | 300
Applicants |  |  |  | 600 | 100 | 1 |  |  |  | 60,000
Awardee Funding Agreements |  |  |  | 100 | 6 | 1 |  |  |  | 600
Interviews |  |  |  | 30 | 2 | 1 |  |  |  | 60
Quarterly Monitoring (FY 2022) |  |  |  | 45 | 5 | 4 |  |  |  | 900
Letter of Intent |  |  |  |  |  |  | 250 | 0.5 | 1 | 125
Applicants |  |  |  |  |  |  | 435 | 100 | 1 | 43,500
Awardee Funding Agreements |  |  |  |  |  |  | 100 | 6 | 1 | 600
Interviews |  |  |  |  |  |  | 175 | 2 | 1 | 350
Quarterly Monitoring (FY 2022 and 2023) |  |  |  |  |  |  | 145 | 5 | 4 | 2900
Grand Total |  |  |  |  |  |  |  |  |  | 177,805

DOT's estimated burden for this information collection is the following:

For Letter of Intent Screening Tool

Expected Number of Respondents: Approximately 600 in Year 2. DOT expects 250 in Year 3 with depletion of NAE funding, reducing those using the tool.

Frequency: Once.

Estimated Average Burden Per Response: 0.5 hours per respondent.

For Applications

Expected Number of Respondents: DOT received 682 applications in Year 1 and expects to receive 600 applications in Year 2 and 435 in Year 3 with the expected depletion of NAE funds.

Frequency: Once.

Estimated Average Burden per Response: 100 hours for each application.

For Funding Agreements

Expected Number of Respondents: DOT awarded 45 grants in Year 1 and expects to award approximately 100 in Years 2 and 3.

Frequency: Once.

Estimated Average Burden per Response: 6 hours for each funding agreement.

For Program Evaluation

Expected Number of Respondents: Estimated 30 in Year 2 (five interviews per capital construction grant awarded) and 175 in Year 3 (five interviews per an estimated 35 capital construction grants awarded.

Frequency: Once.

Estimated Average Burden per Response: 2 hours for each interview.

For Quarterly Monitoring

Expected Number of Respondents: Approximately 45 in Year 2 and 145 in Year 3.

Frequency: Quarterly.

Estimated Average Burden per Response: 5 hours for each Quarterly Monitoring Report.

For Post-Construction Project Monitoring

Because RCN expect no projects to complete construction by 2025, post-construction monitoring hours and cost are not computed in this document.

Estimated Total 3-Year Burden on Respondents: 177,805 Hours

• Letter of Intent [425 hours]

• Applicants [171,700 hours]

• Awardee Funding Agreements [1,470 hours]

• Interviews [410 hours]

• Prior Awardee Quarterly Project Monitoring [3,800 hours]

The following is detailed information and instructions regarding the specific reporting requirements for each report identified above:

Letter of Intent Screening Stage

To help applicants determine their eligibility for the RCN combined grant opportunity, DOT will develop and use the “Letter of Intent” tool to help applicants determine eligibility, direct them to a more appropriate grant program if applicable, and identify application materials they may be missing. The tool will save potential applicants hundreds of hours of application development time if the project has a “fatal flaw” that would render it ineligible. The tool will consist of 10-20 questions and takes 0.5 hour to complete.

Application Stage

To be considered for an RCN grant award, a project sponsor must apply to DOT, providing standard forms, a key information table, a project narrative, and budget description, as detailed in the NOFO. These materials should include the information necessary for DOT to determine that the project satisfies eligibility requirements.

Applications must be submitted through www.valideval.com. Instructions for submitting planning or capital construction grant applications can be found at https://usg.valideval.com/teams/rcn_planning/signup or https://usg.valideval.com/teams/rcn_capitalconstruction/signup, respectively. The application must include the Standard Form 424 (Application for Federal Assistance), Standard Form 424a (Budget Information for Non-Construction Programs) or 424c (Budget Information for Construction Programs), Standard Form 424b (Assurances—Non-Construction Programs) or 424d (Assurances—Construction Programs), a Key Information Table, narrative, and budget.

The application should include a table of contents, maps, and graphics, as appropriate, to make the information easier to review. DOT recommends that the application be prepared with standard formatting preferences (i.e., a single-spaced document, using a standard 12-point font such as Times New Roman, with 1-inch margins). The only substantive portions that may exceed the page limit are documents supporting assertions or conclusions made in the project narrative. If possible, website links to supporting documentation should be provided rather than copies of these supporting materials. If supporting documents are submitted, applicants should clearly identify within the project narrative the relevant portion of the project narrative that each supporting document refers to. At the applicant's discretion, relevant materials provided previously to a modal administration in support of a different DOT financial assistance program may be referenced and described as unchanged.

DOT estimates that it takes approximately 100 person-hours to compile an application package for an RCN application.

Funding Agreement Stage

DOT enters into a funding agreement with each grant recipient. In the agreement, the recipient describes the project that DOT agreed to fund, which is typically the project that was described in the RCN application or a reduced-scope version of that project. The agreement also includes a project schedule, budget, and project related climate change and equity planning and policies.

DOT estimates that it takes approximately 6 person-hours to provide the information necessary for funding agreements.

Program Evaluation Stage (Interviews)

To fulfill evaluation requirements, DOT will conduct interviews with stakeholders associated with each awarded capital construction grant. These interviews will be used to inform case studies that will be developed for each funded capital construction project.

Project Monitoring Stage

DOT requires each grant recipient to submit quarterly reports during the project period to ensure the proper and timely expenditure of federal funds under the grant.

The requirements comply with 2 CFR part 200 and are restated in the funding agreement. During the project monitoring stage, the grantee will complete quarterly progress reports to allow DOT to monitor the project budget and schedule.

DOT estimates that it takes approximately 5 person-hours to develop and submit a quarterly progress report.

Post Construction Monitoring Stage

For Post Construction Reporting, DOT will evaluate the program for recipients of capital construction grants and include the outcomes and impacts of the completed projects, The reporting will document any changes in the overall level of mobility, congestion, access, and safety in the project areas, and environmental impacts and economic development opportunities in project areas. Because RCN expect no projects to complete construction by 2025, post-construction monitoring hours and cost are not computed in this document.

Authority: The Paperwork Reduction Act of 1995; 44 U.S.C. chapter 35, as amended; and 49 CFR 1:48.

Issued in Washington, DC, on February 5, 2024.
John Augustine,
Director of the Office of Infrastructure Finance and Innovation, Office of the Under Secretary for Transportation Policy.

[FR Doc. 2024-02671 Filed 2-8-24; 8:45 am]

BILLING CODE 4910-9X-P